DEPARTMENT OF TRANSPORTATION

Federal Aviation Administration

Notice of Intent To Request Renewal From the Office of Management and Budget (OMB) of Three Current Public Collections of Information

AGENCY: Federal Aviation Administration (FAA), DOT.

ACTION: Notice.

SUMMARY: In compliance with the Paperwork Reduction Act (44 U.S.C. 3501 et seq.), the FAA invites public comment on three currently approved public information collections which will be submitted to OMB for renewal.

DATES: comments must be received on or before December 13, 2004.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0005, General Operating and Flight Rules—FAR 91. Part A of Subtitle VII of the Revised Title 49 U.S.C. authorizes the issuance of regulations governing the use of navigable airspace. 14 CFR part 91 prescribes regulations governing the general operation and flight of aircraft. Information is collected to determine compliance. Respondents are individual airmen, State or local governments, and businesses. The current estimated annual reporting burden is 231,064 hours.

2. 2120-0517, Airport Noise Compatibility Planning—14 CFR part 150. The respondents are those airport operators voluntarily submitting noise exposure maps and noise compatibility programs to the FAA for review and approval. FAA approval makes airport operators' noise compatibility programs eligible for discretionary grant funds set aside under the FAA Airport Improvement Program for that purpose. The current estimated annual reporting burden is 50,400 hours.

3. 2120-0675, 14 CFR part 139 Certification of Airports. This rule revises the current airport certification regulations and establishes certification requirements for airports serving scheduled air carrier operations in aircraft with 10-30 seats. The changes to 14 CFR part 139 result in additional information collections from respondents. The current estimated annual reporting burden is 52,993 hours.

Issued in Washington, DC, on October 5, 2004.
Judith D. Street,
FAA Information Collection Clearance Officer, APF-100.

[FR Doc. 04-22950 Filed 10-12-04; 8:45 am]

BILLING CODE 4910-13-M